DEPARTMENT OF COMMERCE

International Trade Administration

[A-570-108]

Ceramic Tile from the People's Republic of China: Rescission of Antidumping Duty Administrative Review; 2023-2024

AGENCY: Enforcement and Compliance, International Trade Administration, Department of Commerce.

SUMMARY: The U.S. Department of Commerce (Commerce) is rescinding the administrative review of the antidumping duty (AD) order on ceramic tile from the People's Republic of China (China) for the period of review (POR) June 1, 2023, through May 31, 2024.

DATES: Applicable December 2, 2024.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On June 1, 2020, Commerce published in the Federal Register the AD order on ceramic tile from China.¹ On June 3, 2024, Commerce published in the Federal Register a notice of opportunity to request an administrative review of the Order.² On June 28, 2024, Commerce received a timely request from interested party importer Akua BPAC, LLC (Akua), in accordance with 19 CFR 351.213(b)(1), to conduct an administrative review of the Order for two companies, Cayenne Corporation Ltd. (Cayenne), and Foshan Qiangshengda Building Material Co. Ltd. (Foshan Qiangshengda).³

¹ See Ceramic Tile from the People's Republic of China: Antidumping Duty Order, 85 FR 33089 (June 1, 2020) (the Order); see also Ceramic Tile from the People's Republic of China: Notice of Correction to the Antidumping Duty Order, 85 FR 35905 (June 12, 2020).

² See Antidumping or Countervailing Duty Order, Finding, or Suspended Investigation; Opportunity to Request Administrative Review and Join Annual Inquiry Service List, 89 FR 47518 (June 3, 2024).

³ See Akua's Letter, “Request for Administrative Review,” dated June 28, 2024.

On July 29, 2024, Commerce published in the Federal Register a notice of initiation of administrative review with respect to imports of ceramic tile manufactured or exported by Cayenne and Foshan Qiangshengda, in accordance with section 751(a) of the Tariff Act of 1930, as amended (the Act), and 19 CFR 351.221(c)(1)(i).⁴ On August 5, 2024, we placed on the record U.S. Customs and Border Protection (CBP) data for entries of ceramic tile from China during the POR, showing no reviewable POR entries, and invited interested parties to comment.⁵ On August 12, 2024, the Coalition for Fair Trade in Ceramic Tile (petitioner) submitted comments to Commerce regarding the CBP data, requesting that Commerce rescind the administrative review.⁶

⁴ See Initiation of Antidumping and Countervailing Duty Administrative Reviews, 89 FR 60871 (July 29, 2024) (Initiation Notice).

⁵ See Memorandum, “U.S. Customs and Border Protection Data,” dated August 5, 2024.

⁶ See Petitioner's Letter, “Comments on U.S. Customs and Border Protection Data,” dated August 12, 2024.

Additionally, on August 20, 2024, Commerce notified all interested parties of its intent to rescind this administrative review in full because there were no reviewable, suspended entries of subject merchandise by the company listed in the Initiation Notice during the POR and invited interested parties to comment.⁷ On August 27, 2024, the petitioner submitted comments to Commerce regarding the intent to rescind the instant review, again requesting that Commerce rescind the review.⁸

⁷ See Memorandum, “Notice of Intent to Rescind Review,” dated August 20, 2024.

⁸ See Petitioner's Letter, “Petitioner's Comments on Notice of Intent to Rescind Review,” dated August 27, 2024.

Rescission of Review

Pursuant to 19 CFR 351.213(d)(3), it is Commerce's practice to rescind an administrative review of an AD order when there are no reviewable entries of subject merchandise during the POR for which liquidation is suspended.⁹ Normally, upon completion of an administrative review, the suspended entries are liquidated at the AD assessment rate calculated for the review period.¹⁰ Therefore, for an administrative review to be conducted, there must be a reviewable, suspended entry that Commerce can instruct CBP to liquidate at the AD assessment rate calculated for the review period.¹¹ As noted above, there were no entries of subject merchandise for the companies listed in the Initiation Notice during the POR. Accordingly, in the absence of suspended entries of subject merchandise during the POR, we are hereby rescinding this administrative review, in its entirety, in accordance with 19 CFR 351.213(d)(3).

⁹ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023), and Lightweight Thermal Paper From Japan: Rescission of Antidumping Administrative Review; 2022-2023, 89 FR 18373 (March 13, 2024).

¹⁰ See 19 CFR 351.212(b)(1).

¹¹ See, e.g., Shanghai Sunbeauty Trading Co. v. United States, 380 F. Supp. 3d 1328, 1335-36 (CIT 2019), at 12 (referring to section 751(a) of the Act, the CIT held: “While the statute does not explicitly require that an entry be suspended as a prerequisite for establishing entitlement to a review, it does explicitly state the determined rate will be used as the liquidation rate for the reviewed entries. This result can only obtain if the liquidation of entries has been suspended. . . . ”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate From the Russian Federation: Notice of Rescission of Antidumping Duty Administrative Review, 77 FR 65532 (October 29, 2012) (noting that “for an administrative review to be conducted, there must be a reviewable, suspended entry to be liquidated at the newly calculated assessment rate”).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: November 25, 2024.
Scot Fullerton,
Acting Deputy Assistant Secretary for Antidumping and Countervailing Duty Operations.

[FR Doc. 2024-28156 Filed 11-29-24; 8:45 am]

BILLING CODE 3510-DS-P